DEPARTMENT OF TRANSPORTATION

Federal Aviation Administration

14 CFR Part 39

[Docket No. FAA-2005-23334; Directorate Identifier 2005-CE-53-AD; Amendment 39-14651; AD 2006-12-25]

RIN 2120-AA64

Airworthiness Directives; General Machine—Diecron, Inc. Actuator Nut Assembly for the Right Main Landing Gear Installed on Certain Raytheon Aircraft Company (Formerly Beech) Airplanes

AGENCY: Federal Aviation Administration (FAA), DOT.

ACTION: Final rule.

SUMMARY: The FAA adopts a new airworthiness directive (AD) for General Machine—Diecron, Inc. (GMD) actuator nut assembly, part number (P/N) GMD115-810029-17 and P/N GMD115-810029-23, that are installed on certain Raytheon Aircraft Company (Raytheon) (formerly Beech) airplanes that are not equipped with a hydraulic main landing gear (MLG) or modified to a hydraulic MLG. This AD requires you to determine by maintenance records check and/or inspection whether any actuator nut assembly, P/N GMD115-810029-17 or P/N GMD115-810029-23, is installed on the right main MLG actuator, and, if installed, requires you to replace it with a new actuator nut assembly, P/N GMD115-810029-23B or FAA-approved equivalent P/N. This AD results from several reports of failures of the actuator nut assembly, P/N GMD115-810029-17 and P/N GMD115-810029-23. We are issuing this AD to prevent failure of the actuator nut assembly for the right MLG actuator, which could result in failure of the MLG. This failure could prevent the extension or retraction of the MLG.

DATES: This AD becomes effective on July 28, 2006.

As of July 28, 2006, the Director of the Federal Register approved the incorporation by reference of certain publications listed in the regulation.

ADDRESSES: To get the service information identified in this AD, contact General Machine—Diecron, Inc., 3131 U.S. Highway 41, Griffin, Georgia 30224, telephone: (770) 228-6200; facsimile: (770) 228-6299.

To view the AD docket, go to the Docket Management Facility; U.S. Department of Transportation, 400 Seventh Street, SW., Nassif Building, Room PL-401, Washington, DC 20590-001 or on the Internet at http://dms.dot.gov. The docket number is FAA-2005-23334; Directorate Identifier 2005-CE-53-AD.

FOR FURTHER INFORMATION CONTACT: Don Buckley, Aerospace Engineer, Airframe and Propulsion Branch, ACE-117A, FAA, Atlanta Aircraft Certification Office, One Crown Center, 1895 Phoenix Boulevard, Suite 450, Atlanta, Georgia 30337-2748, telephone: (770) 703-6086; facsimile: (770) 703-6097.

SUPPLEMENTARY INFORMATION:

Discussion

On January 30, 2006, we issued a proposal to amend part 39 of the Federal Aviation Regulations (14 CFR part 39) to include an AD that would apply to the GMD actuator nut assembly, P/N GMD115-810029-17 or P/N GMD115-810029-23, that is installed on certain airplanes. This proposal was published in the Federal Register as a notice of proposed rulemaking (NPRM) on February 3, 2006 (71 FR 5796). The NPRM proposed to require you to determine by maintenance records check and/or inspection whether any actuator nut assembly, P/N GMD115-810029-17 or P/N GMD115-810029-23, is installed on the right MLG actuator, and, if installed, would require you to replace it with a new actuator nut assembly, P/N GMD115-810029-23B or FAA-approved equivalent P/N.

Comments

We provided the public the opportunity to participate in developing this AD. The following presents the comments received on the proposal and FAA's response to each comment:

Comment Issue No. 1: Include the Raytheon (Military) Models A200 (C-12A) and A200 (C-12C) Airplanes in the List of “Airplanes Affected”

One commenter writes that the applicability of the proposed AD needs to be expanded. The commenter explains that the Raytheon military Models A200 (C-12A) and A200 (C-12C) airplanes with standard landing gear have the same actuator assemblies as the airplanes listed in the NPRM, and could have the affected P/N nut installed.

We disagree with the commenter that the applicability of the proposed AD needs to be expanded. Although a limited number of the affected actuator assemblies were installed on Models A200 (C-12A) and A200 (C-12C) airplanes, the military operates these airplanes and removed the affected parts from service before the issuance of the NPRM. Paragraph (e)(4) of this AD prohibits the subject actuator nut assembly from being installed on these airplanes in the future. The AD specifies that it applies to the subject actuator nut assembly “installed on, but not limited to” specific models listed.

We are not changing the final rule AD based on this comment.

Comment Issue No. 2: Clarify Applicability of AD by Identifying Raytheon as the Manufacturer of the Affected Airplane Models

Two commenters recommend that it should be stated at the beginning of the document that these defective parts are installed on Raytheon airplanes. The commenter explains that stating this early in the AD action would be better form and result in a more easily comprehended document.

The FAA agrees with the commenters. We will change the final rule to clearly identify that the affected actuator assemblies are installed on certain Raytheon airplane models.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 1,629 airplanes in the U.S. registry.

We estimate the following costs to do the maintenance records check and/or inspection:

Labor cost | Parts cost | Total cost per airplane | Total cost on U.S. operators
1 work-hour × $80 = $80 | Not Applicable | $80 | 1,629 × $80 = $130,320.

We estimate the following costs to do any necessary replacements of the actuator nut assembly that would be required based on the results of this inspection. We have no way of determining the number of airplanes that may need this replacement:

Labor cost | Parts cost | Total cost per airplane
4 work-hours × $80 = $320 | $1,700 | $2,020

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-23334; Directorate Identifier 2005-CE-53-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2006-12-25 General Machine—Diecron, Inc.: Amendment 39-14651; Docket No. FAA-2005-23334; Directorate Identifier 2005-CE-53-AD.

Effective Date

(a) This AD becomes effective on July 28, 2006.

Affected ADs

(b) None.

Applicability

(c) This AD affects any actuator nut assembly, part number (P/N) GMD115-810029-17 or P/N GMD115-810029-23, for the right main landing gear (MLG) actuator installed on, but not limited to, the following Raytheon Aircraft Company (Raytheon) (formerly Beech) airplanes that are certificated in any category and not equipped with a hydraulic MLG or modified to a hydraulic MLG.

Models | Serial Nos.
(1) F90 | LA-2 through LA-225 (except aircraft that incorporate Beech Kit No. 90-8011).
(2) 99, 99A, A99, and B99 | U-1 through U-49 and U51 through U164 (except aircraft that incorporate Beech Kit No. 99-8010-1 or factory installed hydraulic landing gear).
(3) 100 and A100 | B-1 through B-94, B-100 through B-204, and B-206 through B-247.
(4) B100 | BE-1 through BE-137.
(5) 200 | BB-2, BB-6 through BB-733, BB-735 through BB-792, BB-794 through BB-828, BB-830 through BB-853, BB-872, BB-873, BB-892, BB-893, and BB-912 (except aircraft that incorporate Beech Kit No. 101-8018).
(6) B200 | BB-734, BB-793, BB-829, BB-854 through BB-870, BB-874 through BB-891, BB-894, BB-896 through BB-911, BB-913 through BB-1157, BB-1159 through BB-1166, and BB-1168 through BB-1192 (except aircraft that incorporate Beech Kit No. 101-8018).
(7) 200T and B200T | BT-1 through BT-30 (except aircraft that incorporate Beech Kit No. 101-8018).
(8) 200C and B200C | BL-1 through BL-72 (except aircraft that incorporate Beech Kit No. 101-8018).
(9) 200CT and B200CT | BN-1 through BN-4 (except aircraft that incorporate Beech Kit No. 101-8018).
(10) A200CT (FWC-12D) | FG-1 and FG-2 (except aircraft that incorporate Beech Kit No. 101-8018).

Unsafe Condition

(d) This AD results from several reports of failures of the actuator nut assembly, P/N GMD115-810029-17 and P/N GMD115-810029-23, on the right MLG actuator. The actions specified in this AD are intended to prevent failure of the actuator nut assembly for the right MLG actuator, which could result in failure of the MLG. This failure could prevent the extension or retraction of the MLG.

Compliance

(e) To address this problem, you must do the following:

Actions | Compliance | Procedures
(1) Maintenance Records Check: (i) Check the maintenance records to determine whether the following replacements have been made: (A) Actuator nut assembly, P/N GMD115-810029-17, for the right MLG actuator; or (B) Actuator nut assembly, P/N GMD115-810029-23, for the right MLG actuator. (ii) The owner/operator holding at least a private pilot certificate as authorized by section 43.7 of the Federal Aviation Regulations (14 CFR 43.7) may make this check. You must make an entry into the aircraft records that shows compliance with this portion of the AD in accordance with section 43.9 of the Federal Aviation Regulations (14 CFR 43.9). | Within the next 50 hours time-in-service (TIS) or 30 calendar days after July 28, 2006 (the effective date of this AD), whichever occurs first, unless already done | No special procedures necessary to check the maintenance records.
(2) If you find as a result of the check required by paragraph (e)(1) of this AD that there is no record of the specified assembly replacement, inspect the airplane for installation of the following: (i) Actuator nut assembly, P/N GMD115-810029-17, for the right MLG actuator; or (ii) Actuator nut assembly, P/N GMD115-810029-23, for the right MLG actuator. (iii) You may choose to do the inspection without doing the maintenance records check. | Within the next 50 hours TIS or 30 calendar days after July 28, 2006 (the effective date of this AD), whichever occurs first, unless already done | Follow General Machine Diecron, Inc. Service Bulletin GM-D 32-30-01/102505, dated November 21, 2005.
(3) If during the check required by paragraph (e)(1) or the inspection required by paragraph (e)(2) of this AD, you find either actuator nut assembly, P/N GMD115-810029-17 or P/N GMD115-810029-23, for the right MLG actuator, replace the specific assembly, with a new actuator nut assembly, P/N GMD115-810029-23B or FAA-approved equivalent P/N | Before further flight after the check required by paragraph (e)(1) or the inspection required by paragraph (e)(2) of this AD | Follow General Machine Diecron, Inc. Service Bulletin GM-D 32-30-01/102505, dated November 21, 2005.
(4) Do not install any actuator nut assembly, P/N GMD115-810029-17 or P/N GMD115-810029-23, for the right MLG actuator | As of July 28, 2006 (the effective date of this AD) | Not Applicable.

Alternative Methods of Compliance (AMOCs)

(f) The Manager, Atlanta Aircraft Certification Office (ACO), FAA, ATTN: Don Buckley, Aerospace Engineer, FAA, Atlanta ACO, Airframe and Propulsion Branch, ACE-117A, One Crown Center, 1895 Phoenix Boulevard, Suite 450, Atlanta, Georgia 30337-2748, telephone: (770) 703-6086; facsimile: (770) 703-6097, has the authority to approve AMOCs for this AD, if requested using the procedures found in 14 CFR 39.19.

Material Incorporated by Reference

(g) You must do the actions required by this AD following the instructions in General Machine Diecron, Inc. Service Bulletin GM-D 32-30-01/102505, dated November 21, 2005. The Director of the Federal Register approved the incorporation by reference of this service bulletin in accordance with 5 U.S.C. 552(a) and 1 CFR part 51. To get a copy of this service information, contact General Machine—Diecron, Inc., 3131 U.S. Highway 41, Griffin, Georgia 30224, telephone: (770) 228-6200; facsimile: (770) 228-6299. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-23334; Directorate Identifier 2005-CE-53-AD.

Issued in Kansas City, Missouri, on June 9, 2006.
James E. Jackson,
Acting Manager, Small Airplane Directorate, Aircraft Certification Service.

[FR Doc. 06-5429 Filed 6-15-06; 8:45 am]

BILLING CODE 4910-13-P